DEPARTMENT OF DEFENSE

Office of the Secretary

Federal Advisory Committee; Defense Task Force on Sexual Assault in the Military Services

AGENCY: Department of Defense (DoD).

ACTION: Termination of federal advisory committee.

SUMMARY: Under the provisions of the Federal Advisory Committee Act of 1972, (5 U.S.C. Appendix), 41 CFR 102-3.55 and consistent with the Sunset Provisions of the National Defense Authorization Act for Fiscal Year 2005, subtitle K, section 576, Public Law 108-375, the Department of Defense gives notice that it is terminating the Defense Task Force on Sexual Assault in the Military Services, effective June 1, 2010.

FOR FURTHER INFORMATION CONTACT: Jim Freeman, Deputy Committee Management Officer for the Department of Defense, 703-601-6128.

Dated: May 25, 2010.
Mitchell S. Bryman,
Alternate OSD Federal Register Liaison Officer, Department of Defense.

[FR Doc. 2010-12902 Filed 5-27-10; 8:45 am]

BILLING CODE 5001-06-P